CONSUMER PRODUCT SAFETY COMMISSION

[Docket No. CPSC-2015-0001]

Petition Requesting Rulemaking on Residential Elevators

AGENCY: Consumer Product Safety Commission.

ACTION: Notice.

SUMMARY: The Consumer Product Safety Commission (CPSC) has received a petition requesting a safety standard for residential elevators to address an entrapment hazard between the elevator interior and exterior doors. The Commission invites written comments concerning the petition.

DATES: The Office of the Secretary must receive comments on the petition by March 23, 2015.

ADDRESSES: You may submit comments, identified by Docket No. CPSC-2015-0001, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: Mail/hand delivery/courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2015-0001, into the “Search” box, and follow the prompts.

FOR FURTHER INFORMATION CONTACT: Rocky Hammond, Office of the Secretary, Consumer Product Safety Commission, 4330 East West Highway, Bethesda, MD, 20814; telephone (301) 504-6833, email: rhammond@cpsc.gov.

SUPPLEMENTARY INFORMATION: On November 1, 2013, The Safety Institute, Carol Pollack-Nelson, and Cash, Krugler & Fredericks, LLC (collectively referred to as petitioners), submitted a petition to the Commission to initiate rulemaking to mandate a safety standard for residential elevators to address an entrapment hazard caused by excess space between the elevator car door/gate (interior door) and hoistway or swing door (exterior door).

Petitioners assert that in many home elevators, and in similar versions found in older apartment and commercial buildings, the clearance between the interior door and exterior door is large enough to allow children as old as 12 years to fit between the doors. According to petitioners, a child can become entrapped in the door path when the elevator is called to another floor, and the hoistway door automatically locks. The child's body is carried along with the elevator car until the hoistway door meets the obstruction of the sill, where the child's body—usually the head—is crushed.

Petitioners request that the CPSC promulgate a mandatory standard that constrains the space between residential elevator hoistway doors and car doors/gates to 4 inches when measured from the inside of the hoistway door to the farthest point on the car door/gate. Petitioners contend that the CPSC's figures show that there were an estimated 1,600 injuries associated with residential elevators and lifts from 2011 through 2012. According to the petitioners, some of those injuries, as well as several deaths, were due to children becoming entrapped in the gap between the residential elevators doors. In addition, the petitioners state that the voluntary standard (ASME Elevator Safety Code) has failed to safeguard children from injuries and deaths from the entrapment hazard because that standard allows a wider gap between the doors for a maximum of 5 inches.

Interested parties may obtain a copy of the petition by writing or calling the Office of the Secretary, Consumer Product Safety Commission, 4330 East West Highway, Bethesda, MD 20814; telephone (301) 504-6833. The petition is also available at http://www.regulations.gov under Docket No. CPSC-2015-0001, Supporting and Related Materials.

Alberta E. Mills,
Acting Secretary, Consumer Product Safety Commission.

[FR Doc. 2015-00907 Filed 1-21-15; 8:45 am]

BILLING CODE 6355-01-P